ENVIRONMENTAL PROTECTION AGENCY

40 CFR Part 52

[CT-62-7221a; A-1-FRL-6877-5]

Approval and Promulgation of Air Quality Implementation Plans; Connecticut; Post-1996 Rate of Progress Plans

AGENCY: Environmental Protection Agency (EPA).

ACTION: Final rule.

SUMMARY: EPA is approving State Implementation Plan (SIP) revisions submitted by the State of Connecticut. These revisions establish post-1996 rate of progress (ROP) emission reduction plans, including minor adjustments to the Connecticut 1990 base year inventory, for the Greater Hartford serious ozone nonattainment area, and for the Connecticut portion of the New York, New Jersey, Connecticut (NY-NJ-CT) severe ozone nonattainment area. The intended effect of this action is to approve these SIP revisions as meeting the requirements of the Clean Air Act.

EFFECTIVE DATE: This rule will become effective on November 20, 2000.

ADDRESSES: Copies of the documents relevant to this action are available for public inspection during normal business hours, by appointment at the Office of Ecosystem Protection, U.S. Environmental Protection Agency, EPA-New England, One Congress Street, 11th floor, Boston, MA; and the Bureau of Air Management, Department of Environmental Protection, State Office Building, 79 Elm Street, Hartford, CT 06106-1630.

FOR FURTHER INFORMATION CONTACT: Robert McConnell, (617) 918-1046.

SUPPLEMENTARY INFORMATION: This Supplementary Information section is organized as follows:

A. What action is EPA taking today?

B. What changes were made to the Connecticut base year inventory?

C. What are Connecticut's target emission levels for VOC and NOX?

D. What control strategy will Connecticut use to meet its emission target levels?

E. How did Connecticut meet the contingency measure requirement?

F. What are the State's conformity budgets?

A. What Action is EPA Taking Today?

EPA is approving post-1996 ROP emission reduction plans through 1999, and minor revisions to the 1990 base year inventory, submitted by the State of Connecticut for the Greater Hartford serious ozone nonattainment area, and the Connecticut portion of the NY-NJ-CT severe ozone nonattainment area, which is a multi-state ozone nonattainment area, as revisions to Connecticut's SIP. Connecticut did not enter into an agreement with New York and New Jersey to do a multi-state ROP plan, and therefore submitted a plan to reduce emissions only in the Connecticut portion of this area. EPA is taking action today only on the Connecticut portion of the NY-NJ-CT post-1996 plan.

The post-1996 ROP plans document how Connecticut complied with the provisions of section 182 (c)(2) of the Federal Clean Air Act (the Act), through 1999. These sections of the Act require states containing certain ozone nonattainment areas develop strategies to reduce emissions of the pollutants that react to form ground level ozone.

On June 30, 2000 (65 FR 40560), EPA published a proposed rulemaking for the State of Connecticut. That document proposed approval of the Connecticut post-1996 ROP plans. The formal SIP revision was submitted by Connecticut on December 30, 1997 and January 7, 1998.

B. What Changes Were Made to the Connecticut Base Year Inventory?

Connecticut made two minor changes to its 1990 base year inventory, as described in the June 30, 2000 proposed approval action. EPA approved the Connecticut 1990 base year emission inventory on October 24, 1997 (62 FR 55336). The revised base year emission estimates shown in Table 1 are being approved as a revision to the State's SIP. The emission values in Table 1 represent tons per summer day (tpsd) emissions.

Table 1
Nonattainment area | Source category | Original estimate (approved 10/24/97) | Revised estimate (approved in today's action)
Greater Hartford | Point | NOX = 87.31 tpsd | NOX = 84.21 tpsd
Greater Hartford | On-road mobile | VOC = 127.12 NOX = 175.56 | VOC = 121.0 NOX = 172.4
NY-NJ-CT | On-road mobile | VOC = 43.83 NOX = 55.73 | VOC = 40.4 NOX = 54.8

C. What Are Connecticut's Target Emission Levels for VOC and NOX?

Connecticut's 1999 target emission levels are as follows. For the Greater Hartford area, the VOC target is 307.1 tpsd, and the NOX target is 297.9 tpsd. For the Connecticut portion of the NY-NJ-CT area, the VOC target is 93.0 tpsd, and the NOX target is 104.0 tpsd. These target emission levels represent the maximum amount of emissions that Connecticut can emit in 1999, given the State's post-1996 emission reduction requirements.

These target levels match the acetone-adjusted target levels EPA calculated in its June 30, 2000 proposed approval action. Connecticut confirmed in writing by letter dated July 21, 2000 its agreement with EPA's adjustments to the State's original emission target levels.

D. What Control Strategy Will Connecticut use to Meet its Emission Target Levels?

EPA's June 30, 2000 proposed approval action outlined the control strategy that Connecticut used to meet its emission target levels. In summary, the State's control strategy consists of the emission reductions from the continued enforcement of measures EPA approved as part of the State's 15 percent emission reduction plans (64 FR 12015) (March 10, 1999), coupled with emission reductions from the State's NOX control strategy for large industrial point sources, federal non-road engine standards, and Connecticut's Low Emission Vehicle program. All these control measures are approved as part of Connecticut's SIP or are otherwise enforceable under the Act.

E. How Did Connecticut Meet the Contingency Measure Requirement?

Connecticut met the contingency requirements of sections 172(c)(9) and 182(c)(9) of the Act by using surplus NOX emission reductions achieved by the State's NOX control strategy. As explained in more detail in the EPA's June 30, 2000 proposed approval action, Connecticut's NOX control strategy achieves sufficient surplus reductions beyond those needed to meet the ROP targets to cover the State's 3 percent contingency measure obligation. The surplus reductions in the greater Hartford area are not sufficient to cover completely the area's 3 percent contingency obligation, but a significant 10.7 tpsd surplus remains in the NY-NJ-CT area. This surplus in the NY-NJ-CT area is sufficient to cover that area's 3 percent contingency obligation, to transfer 2.4 tpsd to the Greater Hartford area to complete that area's contingency obligation, and to use 1.2 tpsd to cover the VOC shortfall that occurred due to the State's failure to remove acetone from its area source base year inventory.

F. What Are the State's Conformity Budgets?

Although the Connecticut post-1996 ROP plans contain motor vehicle emission budgets for 1999, the current conformity budgets are those contained in the document, “Addenda to the Ozone Attainment Demonstrations for the Southwest Connecticut Severe Ozone Nonattainment area and Greater Connecticut Serious Ozone Nonattainment area,” which was submitted to EPA on February 15, 2000. This document included the transportation conformity budgets for 2007 shown below in Table 2.

Table 2
Nonattainment area | VOC (tpsd) | NOX (tpsd)
Severe area | 9.7 | 23.7
Serious area | 30.0 | 79.6

Since these budgets are more restrictive, cover a time frame longer than the post-1996 ROP plans, and are based on the attainment plan, the 2007 budgets take precedence over the 1999 budgets. Furthermore, EPA New England published a document in the Federal Register announcing that these budgets are adequate for use in transportation conformity determinations on June 16, 2000 (65 FR 37778). Therefore, the 2007 budgets supersede the 1999 budgets. As a result, all new and revised State Transportation Improvement Programs that require a conformity determination must conform to these 2007 budgets, not the 1999 budgets contained in the post-1996 rate of progress plan.

Other specific requirements of post-1996 ROP plans and the rationale for EPA's proposed action are explained in the NPR and will not be restated here. The only public comment received on the NPR was a July 21, 2000 letter from the Connecticut Department of Environmental Protection confirming their agreement with the manner in which EPA excluded acetone from the State's base year inventory.

Final Action

EPA is approving post-1996 ROP plans for the Greater Hartford serious area, and the Connecticut portion of the NY-NJ-CT severe area through 1999, and minor revisions to the Connecticut 1990 emission inventory for ozone, as a revision to the Connecticut SIP.

Nothing in this action should be construed as permitting or allowing or establishing a precedent for any future request for revision to any State implementation plan. Each request for revision to the State implementation plan shall be considered separately in light of specific technical, economic, and environmental factors and in relation to relevant statutory and regulatory requirements.

III. Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 18, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Nitrogen dioxide, Ozone.

Dated: September 15, 2000.
Mindy S. Lubber,
Regional Administrator, EPA-New England.

Part 52 of chapter I, title 40 of the Code of Federal Regulations is amended as follows:

PART 52—[AMENDED]

1. The authority citation for part 52 continues to read as follows:

Authority: 42 U.S.C. 7401 et seq.

Subpart H—Connecticut

2. Section 52.377 is added to subpart H to read as follows:

§ 52.377 Control strategy: Ozone.

Revisions to the State Implementation Plan submitted by the Connecticut Department of Environmental Protection on December 30, 1997 and January 7, 1998. These revisions are for the purpose of satisfying the rate of progress requirement of section 182(c)(2) through 1999, and the contingency measure requirements of sections 172(c)(9) and 182(c)(9) of the Clean Air Act, for the Greater Hartford serious ozone nonattainment area, and the Connecticut portion of the NY-NJ-CT severe ozone nonattainment area.

3. Section 52.384 is amended by revising paragraph (a) to read as follows:

§ 52.384 Emission inventories.

(a) The Governor's designee for the State of Connecticut submitted the 1990 base year emission inventories for the Connecticut portion of the New York-New Jersey-Connecticut severe ozone nonattainment area and the Greater Hartford serious ozone nonattainment area on January 13, 1994 as revisions to the State's SIP. Revisions to the inventories were submitted on February 3, 1994, February 16, 1995, and December 30, 1997. The 1990 base year emission inventory requirement of section 182(a)(1) of the Clean Air Act, as amended in 1990, has been satisfied for these areas.

* * * * *

[FR Doc. 00-26750 Filed 10-18-00; 8:45 am]

BILLING CODE 6560-50-P